NATIONAL ARCHIVES AND RECORDS ADMINISTRATION

[NARA-2016-037]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules, as required by 44 U.S.C. 3303a(a).

DATES: NARA must receive requests for copies in writing by August 1, 2016. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2016-0004, 1 item, 1 temporary item). Records relating to county committee elections, including ballots, correspondence, and eligible voter lists.

2. Department of Agriculture, Office of the Ombudsperson (DAA-0016-2016-0002, 9 items, 8 temporary items). Monthly activity reports, calendars, speeches and presentations, inquiries and resolution files, statistical tracking records, routine congressional correspondence, and internal program management files. Proposed for permanent retention are official marketing publications and annual reports.

3. Department of the Army, Agency-wide (DAA-AU-2016-0004, 1 item, 1 temporary item). Master files of an electronic information system that contains records relating to engineering drawings and technical manuals.

4. Department of the Army, Agency-wide (DAA-AU-2016-0028, 1 item, 1 temporary item). Master files of an electronic information system that contains records relating to personnel, manpower, and budget.

5. Department of the Army, Agency-wide (DAA-AU-2016-0031, 1 item, 1 temporary item). Master files of an electronic information system that contains records relating to hazardous substances used for equipment maintenance purposes.

6. Department of the Army, Agency-wide (DAA-AU-2016-0033, 1 item, 1 temporary item). Master files of an electronic information system that contains records relating to the recruitment of foreign nationals for civilian employment.

7. Department of the Army, Agency-wide (DAA-AU-2016-0034, 1 item, 1 temporary item). Master files of an electronic information system that contains records relating to the planning and execution of personnel mobilization.

8. Department of the Army, Agency-wide (DAA-AU-2016-0035, 1 item, 1 temporary item). Master files of an electronic information system that contains records relating to materiel nomenclature requests.

9. Department of Commerce, Bureau of the Census (DAA-0029-2016-0003, 4 items, 3 temporary items). Administrative subject files, reading files, and background and working papers relating to reports and presentations maintained among program subject files. Proposed for permanent retention are program subject files relating to the operations, programs, and plans of the agency.

10. Department of Defense, Defense Health Agency (DAA-0330-2016-0012, 1 item, 1 temporary item). Master files of an electronic information system used to manage military and other patients who are on blood-thinning medication.

11. Department of Health and Human Services, Administration for Children and Families (DAA-0292-2016-0008, 5 items, 2 temporary items). Records of the Assistant Secretary and Executive Secretariat, including routine program correspondence and working files. Proposed for permanent retention are briefing books, calendars, speeches, policy decision papers, and official correspondence.

12. Department of Health and Human Services, Administration for Children and Families (DAA-0292-2016-0014, 11 items, 6 temporary items). Routine correspondence, working papers and background materials, conference records, routine standard operating procedure records, mass communication records, and routine reports. Proposed for permanent retention are publications, photographs, conference records of high-level officials, and official correspondence of high-level officials.

13. Department of Homeland Security, Immigration and Customs Enforcement (DAA-0567-2016-0002, 14 items, 14 temporary items). Records related to information management compliance including complaint and privacy incident files, compliance review files, disclosure advice files, rulemaking files, information sharing agreement files, and related materials.

14. Department of Homeland Security, United States Citizenship and Immigration Services (DAA-0566-2016-0013, 1 item, 1 temporary item). Master files of an electronic information system used to track and process applications, petitions, and requests for benefits and services.

15. Department of the Navy, United States Marine Corps (DAA-0127-2014-0003, 1 item, 1 temporary item). Master files of an electronic information system used to manage, analyze, and disseminate topographic imagery for commands in the field.

16. Department of the Navy, United States Marine Corps (DAA-0127-2014-0024, 2 items, 1 temporary item). Master files of an electronic information system used to manage digital imagery not of historical importance. Proposed for permanent retention are significant images of historical importance.

17. Department of Transportation, National Highway Transportation Safety Administration (DAA-0416-2014-0001, 1 item, 1 temporary item). Records related to cognitive testing performed in preparation for a motor vehicle occupant safety survey.

18. Federal Communications Commission, International Bureau (DAA-0173-2016-0010, 3 items, 3 temporary items). Overseas telecommunications data submitted by carriers.

19. Federal Communications Commission, Office of Engineering and Technology (DAA-0173-2016-0003, 2 items, 2 temporary items). Applications submitted by the public, related documents, and licenses granted for experimental radio testing and research licenses.

20. Federal Communications Commission, Wireline Competition Bureau (DAA-0173-2016-0006, 1 item, 1 temporary item). Records related to wireless provider traffic studies.

21. National Archives and Records Administration, Office of Government Information Services (DAA-0064-2016-0001, 4 items, 2 temporary items). Records created in helping resolve Freedom of Information Act disputes and other mission-related functions. Proposed for permanent retention are compliance assessment final reports and the annual report to Congress.

22. National Archives and Records Administration, Research Services (N2-59-16-1, 2 items, 2 temporary items). Records of the Department of State related to regulations and executive orders which are duplicative of accessioned records found in other record groups. These records were accessioned to the National Archives but lack sufficient historical value to warrant continued preservation.

23. Peace Corps, Headquarters (DAA-0490-2016-0002, 3 items, 3 temporary items). Records related to training materials created for volunteers and post staff.

24. Reconstruction Finance Corporation, Metals Reserve Company (N1-234-12-2, 42 items, 38 temporary items). Included are administrative records and records related to production, pricing, contracts, transportation, and stockpiling and warehousing of metal ores. Proposed for permanent retention are Texas City, Texas, plant blueprints and 1947 disaster subject files, and records related to the Premium Price Plan.

25. Reconstruction Finance Corporation, Rubber Reserve Corporation (N1-234-12-3, 14 items, 11 temporary items). Records include administrative files, transportation documentation, freight claims, payment information, service order contracts, cooperative agreements, research contracts, lease agreements, sales reports, and purchase agreements. Proposed for permanent retention are synthetic rubber program records, annual operational reports, and Corporation agreements with private companies.

26. Securities and Exchange Commission, Office of Human Resources (DAA-0266-2016-0010, 4 items, 4 temporary items). Records related to agency-sponsored employee training.

27. Securities and Exchange Commission, Office of Minority and Women Inclusion (DAA-0266-2016-0011, 7 items, 7 temporary items). Records related to agency actions to promote, monitor, and assess workplace diversity and inclusion.

28. Selective Service System, Agency-wide (DAA-0147-2015-0004, 1 item, 1 temporary item). Master files of an electronic information system that contains records relating to the registration and compliance of individuals under the Selective Service Act.

Laurence Brewer,
Chief Records Officer for the U.S. Government.

[FR Doc. 2016-15697 Filed 6-30-16; 8:45 am]

BILLING CODE 7515-01-P